FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET Date | Trans No. | ET Req Status | Party Name
12-May-03 | 20030530 | G | Networks Associates, Inc.
|  | G | IntruVert Networks Inc.
|  | G | IntruVert Networks Inc.
| 20030589 | G | PRIMEDIA Inc.
|  | G | PRIMEDIANet Inc.
|  | G | Cover Concepts Marketing Services, LLC
|  | G | PRIMEDIA California Digital Inc.
|  | G | PRIMEDIA Magazine Finance, Inc.
|  | G | PRIMEDIA Magazines Inc.
|  | G | PRIMEDIA Speciality Group Inc.
| 20030591 | G | CVC European Equity Partners III L.P.
|  | G | E.ON AG.
|  | G | Viterra Energy Services AG.
| 20030592 | G | A. Jerrold Perenchio.
|  | G | Family Stations, Inc.
|  | G | Family Stations, Inc.
| 20030600 | G | Laird Norton Company LLC.
|  | G | DLC Holdings, Inc.
|  | G | Dixieline Lumber Company.
|  | G | Dixieline Builders Fund Control, Inc.
| 20030603 | G | Oxford Industries, Inc.
|  | G | Viewpoint International, Inc.
|  | G | Viewpoint International, Inc.
14-May-03 | 20030483 | G | CRH plc.
|  | G | S.E. Johnson Companies Inc.
|  | G | S.E. Johnson Companies Inc.
| 20030485 | G | Carlyle Partners III, L.P.
|  | G | TA Acquisition Holdings, Inc.
|  | G | The Aerostructures Corporation.
19-May-03 | 20030588 | G | Sumner M. Redstone.
|  | G | AOL Time Warner Inc.
|  | G | Comedy Partners.
| 20030596 | G | Automatic Data Processing, Inc.
|  | G | Deutsche Bank AG.
|  | G | Deutsche Investment Management Americas Inc.
|  | G | Scudder Trust Company.
|  | G | Scudder Investments Service Company.
|  | G | Scudder Distributors, Inc.
|  | G | Deutsche Realty Holdings (II), LLC.
| 20030604 | G | Teva Pharmaceutical Industries Limited.
|  | G | GlaxoSmithKline plc.
|  | G | Glaxo Group Limited.
| 20030607 | G | David W. and Freda Barrick.
|  | G | John D. Gaughan.
|  | G | Exber, Inc.
|  | G | Union Plaza Hotel and Casino, Inc.
|  | G | Union Plaza Operating Company, Inc.
|  | G | Gaughan South Corp.
| 20030609 | G | SmartMail, LLC.
|  | G | Roy R. Ferber.
|  | G | Drop Ship Express, Inc.
| 20030610 | G | General Motors Corporation.
|  | G | Lend Lease Corporation Limited.
|  | G | CapMark Services, L.P.
|  | G | Lend Lease Asset Management, L.P.
|  | G | Lend Lease Equities S.A. de C.V.
|  | G | Lend Lease Japan Inc.
|  | G | Lend Lease Real Estate Investments, Inc.
|  | G | Lend Lease (US) Inc.
|  | G | Pearl Mortgage, Inc.
| 20030611 | G | Churchill Equity and ESOP Capital Partners II, L.P.
|  | G | Code, Hennessy & Simmons III, L.P.
|  | G | CBSA Holdings, L.L.C.
| 20030617 | G | Berkshire Hathaway Inc.
|  | G | Wal-Mart Stores, Inc.
|  | G | McLane Company Inc.
21-May-03 | 20030621 | G | Jupiter Partners II L.P.
|  | G | Gary Damkoehler.
|  | G | JSA Healthcare Corporation.

FOR FURTHER INFORMATION CONTACT: Sandra M. Peay, Contact Representative, or Renee Hallman, Legal Technician, Federal Trade Commission, Premerger Notification Office, Bureau of Competition, Room H-303, Washington, DC 20580, (202) 326-3100.

By Direction of the Commission.
Donald S. Clark,
Secretary.

[FR Doc. 03-15365 Filed 6-17-03; 8:45 am]

BILLING CODE 6750-01-M